DEPARTMENT OF HEALTH AND HUMAN SERVICES

Administration on Aging

Agency Information Collection Activities; Proposed Collection; Comment Request; Annual Reporting Requirements for the Older American Act Title VI Grant Program

AGENCY: Administration on Aging, HHS.

ACTION: Notice

.

SUMMARY: The Administration on Aging (AoA) is announcing that the proposed collection of information listed below has been submitted to the Office of Management and Budget (OMB) for review and clearance under the Paperwork Reduction Act of 1995.

DATES: Submit written or electronic comments on the collection of information by April 5, 2012.

ADDRESSES: Submit electronic comments on the collection of information to: Cynthia.LaCounte@aoa.hhs.gov. Submit written comments on the collection of information to Cynthia LaCounte, Administration on Aging, Washington, DC 20201 or by fax at 202-357-3560.

FOR FURTHER INFORMATION CONTACT: Margaret Graves at (202) 357-0148 or Cynthia.LaCounte@aoa.hhs.gov.

SUPPLEMENTARY INFORMATION: In compliance with 44 U.S.C 3507, AoA has submitted the following proposed collection of information to OMB for review and clearance.

Describe Collection of Information

AoA estimates the burden of this collection of information as follows: Annual submission of the Program Performance Reports are due 90 days after the end of the budget period and final project period.

Respondents: Federally Recognized Tribes, Tribal and Native Hawaiian Organizations receiving grants under Title VI, Part A, Grants for Native Americans; Title VI, Part B, Native Hawaiian Program and Title VI, Part C, Native American Caregiver Support Program.

Estimated Number of Responses: 256.

Total Estimated Burden Hours: 640.

Dated: February 28, 2012.
Kathy Greenlee,
Assistant Secretary for Aging.

[FR Doc. 2012-5437 Filed 3-5-12; 8:45 am]

BILLING CODE 4154-01-P